INTERNATIONAL TRADE COMMISSION

[Investigation No. 337-TA-1311]

Certain Centrifuge Utility Platform and Falling Film Evaporator Systems and Components Thereof; Institution of Investigation

AGENCY: U.S. International Trade Commission.

ACTION: Notice.

SUMMARY: Notice is hereby given that a complaint was filed with the U.S. International Trade Commission on March 29, 2022, under section 337 of the Tariff Act of 1930, as amended, on behalf of Apeks, LLC of Johnstown, Ohio. The complaint was supplemented by letter on April 14, 2022. The complaint, as supplemented, alleges violations of section 337 based upon the importation into the United States, the sale for importation, and the sale within the United States after importation of certain centrifuge utility platform and falling film evaporator systems and components thereof by reason of infringement of certain claims of U.S. Patent No. 10,814,338 (“the '338 patent”), U.S. Patent No. 11,014,098 (“the '098 patent”) and U.S. Patent No. 10,899,728 (“the '728 patent”). The complaint, as supplemented, further alleges that an industry in the United States exists as required by the applicable Federal Statute. The complainant requests that the Commission institute an investigation and, after the investigation, issue a general exclusion order, or in the alternative a limited exclusion order, and cease and desist orders.

ADDRESSES: The complaint, and supplement, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Pathenia M. Proctor, The Office of Unfair Import Investigations, U.S. International Trade Commission, telephone (202) 205-2560.

SUPPLEMENTARY INFORMATION:

Authority: The authority for institution of this investigation is contained in section 337 of the Tariff Act of 1930, as amended, 19 U.S.C. 1337, and in section 210.10 of the Commission's Rules of Practice and Procedure, 19 CFR 210.10 (2021).

Scope of Investigation: Having considered the complaint, the U.S. International Trade Commission, on April 28, 2022, ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 1, 10, and 14 of the '338 patent; claims 1, 10, and 18 of the '098 patent; and claims 1, 9, and 19 of the '728 patent, and whether an industry in the United States exists as required by subsection (a)(2) of section 337;

(2) Pursuant to section 210.10(b)(1) of the Commission's Rules of Practice and Procedure, 19 CFR 210.10(b)(1), the plain language description of the accused products or categories of accused products, which defines the scope of the investigation, are “(a) centrifuge utility platforms which combine closed-loop, alcohol extraction with mechanical centrifugation capable of targeting specific plant compounds, isolating the desired separation, and (b) falling film evaporators which distill and process solutions comprising extracts of botanical compounds (e.g., cannabinoids) and solvent to separate out the botanical oils and recover the solvent for reuse”;

(3) For the purpose of the investigation so instituted, the following are hereby named as parties upon which this notice of investigation shall be served:

(a) The complainant is:

Apeks, LLC, 31 Greenscape Court, Johnstown, Ohio 43031

(b) The respondents are the following entities alleged to be in violation of section 337, and are the parties upon which the complaint is to be served:

Ambiopharm Inc., 1024 Dittman Court, Beech Island, SC 29842

Calpha Industries Inc., 22732 Granite Way Suite A, Laguna Hills, CA 92653

Comerg, LLC, 12620 N Cave Creek Rd, Phoenix, AZ 85022, USA

Ezhydro, 10255 Old Placerville Rd., Sacramento, CA 95827

Henan Lanphan Industry Co., Ltd., Room 801, Building B, CC Mall, Jianshe, Road, Zhongyuan District, Zhengzhou, Henan, Province, China, 450000

HX Labs, LLC, 34004 Texas St. SW, Albany, OR 97321

Idea Makers, LLC, 722 S State St., Salt Lake City, UT 84111

Lab1st Scientific and Industrial Equipment, Inc., No. 248 Guanghua Road, MinHang District, Shanghai 201612, China

Miracle Education Distributors, Inc., 68366 Kieley Rd., Cathedral City, CA 92234, USA

Mountain Pure, LLC, 496 E 1750 N, Unit E, Vineyard, UT 84057, USA

Redford Management, 4625 Alger St., Los Angeles, CA 90039

Ri Hemp Farms, LLC, 39 Nooseneck Hill Rd., West Greenwich RI 02817

Shanghai Yuanhuai Industries Co. Ltd., No. 99 Shenbei Yi Rd., Songjiang District, Shanghai City, China, 201612

Toption Instrument Co., Ltd., 21501 Room HeCheng,TaiBai Road, YanTa District, Xi'an, Shaanxi Province, China, 710000

Zhangjiagang Chunk Trading Corp. d/b/a, Zhangjiagang Charme Trading Corp. Ltd., Wang Xi Lu, Gusu Qu, Suzhou Shi, Jiangsu Province, China, 215000

(c) The Office of Unfair Import Investigations, U.S. International Trade Commission, 500 E Street SW, Suite 401, Washington, DC 20436; and

(4) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainant of the complaint, as supplemented, and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint, as supplemented, and this notice and to enter an initial determination and a final determination containing such findings, and may result in the issuance of an exclusion order or cease and desist order or both directed against the respondent.

By order of the Commission.
Issued: April 28, 2022.
Lisa Barton,
Secretary to the Commission.

[FR Doc. 2022-09508 Filed 5-3-22; 8:45 am]

BILLING CODE 7020-02-P